DEPARTMENT OF TRANSPORTATION

Federal Transit Administration

Capital Investment Program—New Starts and Small Starts Program Funds

AGENCY: Federal Transit Administration (FTA), DOT.

ACTION: Notice.

SUMMARY: The U.S. Department of Transportation's (DOT) Federal Transit Administration (FTA) announces the apportionment of the FY 2011 Capital Investment (New Starts and Small Starts) program funds. The funds will be used for construction of new fixed guideway systems, or extensions to existing fixed guideway systems, or corridor based bus systems to promote livable communities, improve mobility by providing alternatives to automobile, and reduce the impact on the environment.

FOR FURTHER INFORMATION CONTACT: For general program information on the New Starts, contact Eric Hu, Office of Program Management, at (202) 366-0870, e-mail: Eric.Hu@dot.gov mailto:, for project specific issues, contact Elizabeth Day, Office of Planning and Environment, at (202) 366-5159, e-mail: Elizabeth.Day@dot.gov.

SUPPLEMENTARY INFORMATION: In FY 2011, $1,596,800,000 was appropriated for the Capital Investments Grant Account, which includes the New Starts and Small Starts programs. After a one percent oversight takedown, the total amount allocated for New Starts and Small Starts is $1,580,832,000. The funding is allocated to eight existing Full Funding Grant Agreement (FFGA) projects, four pending FFGA projects, six projects recommended for future FFGAs, and nine Small Starts funding recommendations. Funding is also provided to the Denali Commission Alaska and Alaska and Hawaii ferry projects authorized in law. Project allocations are shown in Table 1, which accompanies this announcement. Project identification numbers are assigned to each project and must be used in the grant application submitted through the Transportation Electronic Award Management system. Pre-award authority is granted as of February 8, 2011, the publication date of the FTA Fiscal Year 2011 Apportionments, Allocations, and Program Information notice, and projects are subject to the conditions described in that notice. Funding announced in this notice will be available for obligation until September 30, 2013.

Issued in Washington, DC, this 21st day of June, 2011.
Peter Rogoff,
Administrator.

BILLING CODE 4910-57-P

[FR Doc. 2011-15912 Filed 6-23-11; 8:45 am]

BILLING CODE 4910-57-C